DEPARTMENT OF DEFENSE

Office of the Secretary

[Transmittal Nos. 13-45]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-45 with attached transmittal, policy justification, and Sensitivity of Technology.

Dated: December 31, 2014.
Aaron Siegel,
Alternate OSD Federal Register Liaison Officer, Department of Defense.

Transmittal No. 13-45

Notice of Proposed Issuance of Letter of Offer Pursuant to Section 36(b)(1) of the Arms Export Control Act, as amended

(i) Prospective Purchaser: Iraq

(ii) Total Estimated Value:

Major Defense Equipment* | $.70 billion
Other | $ 1.70 billion
Total | $2.40 billion
* as defined in Section 47(6) of the Arms Export Control Act.

(iii) Description and Quantity or Quantities of Articles or Services under Consideration

for Purchase: 175 Full Track M1A1 Abrams Tanks with 120mm Gun modified and upgraded to the M1A1 Abrams configuration, 15 M88A2 Improved Tank Recovery Vehicles, 175 .50 Cal M2 Machine Guns with Chrysler Mount, 350 7.62mm M240 Machine Guns, 10 .50 Cal BR M2 HB Machine Guns, 10,000 M831A1 120mm High Explosive Anti-tank TP-T Ammunition, 25,000 M865 120mm TPCSDS-T Ammunition, 10,000 M830A1 120mm High Explosive Anti-tank Multipurpose Tracer Ammunition, 10,000 M1002 120mm Target Practice Multipurpose Tracer (TPMP-T) Ammunition, and 190 AN/VRC-92 Vehicular Dual Long-Range Radio Systems, 700 M1028 Commercial Utility Cargo Vehicles, Radios, Receiver Transmitters (RT-1702G), installation, ammunition, simulators, communication equipment, support equipment, fuel, transportation, spare and repair parts, site surveys, Quality Assurance Teams, special tools and test equipment, personnel training and training equipment, publications and technical documentation, U.S. Government and contractor technical, engineering, and logistical support services, and other related elements of program and logistics support.

(iv) Military Department: U.S. Army (USA)

(v) Prior Related Cases, if any: FMS case VPP—$684M-20Oct08

(vi) Sales Commission, Fee, etc., Paid, Offered, or Agreed to be Paid: None

(vii) Sensitivity of Technology Contained in the Defense Article or Defense Services Proposed to be Sold: See Attached Annex.

(viii) Date Report Delivered to Congress: 19 Dec 14

POLICY JUSTIFICATION

Iraq—M1A1 Abrams Tanks

The Government of Iraq has requested a possible sale of 175 Full Track M1A1 Abrams Tanks with 120mm Gun modified and upgraded to the M1A1 Abrams configuration, 15 M88A2 Improved Tank Recovery Vehicles, 175 .50 Cal M2 Machine Guns with Chrysler Mount, 350 7.62mm M240 Machine Guns, 10 .50 Cal BR M2 HB Machine Guns, 10,000 M831A1 120mm High Explosive Anti-tank TP-T Ammunition, 25,000 M865 120mm TPCSDS-T Ammunition, 10,000 M830A1 120mm High Explosive Anti-tank Multipurpose Tracer Ammunition, 10,000 M1002 120mm Target Practice Multipurpose Tracer (TPMP-T) Ammunition, and 190 AN/VRC-92 Vehicular Dual Long-Range Radio Systems, 700 M1028 Commercial Utility Cargo Vehicles, Radios, Receiver Transmitters (RT-1702G), installation, ammunition, simulators, communication equipment, support equipment, fuel, transportation, spare and repair parts, site surveys, Quality Assurance Teams, special tools and test equipment, personnel training and training equipment, publications and technical documentation, U.S. Government and contractor technical, engineering, and logistical support services, and other related elements of program and logistics support. The estimated cost is $2.4 billion.

This proposed sale will contribute to the foreign policy and national security of the United States by helping to improve the security of a friendly country. This proposed sale directly supports the Government of Iraq and serves the interests of the people of Iraq and the United States.

Iraq will use the M1A1 Abrams tank to facilitate progress towards increasing its ability to quickly mobilize and defend its border. Support of the M1A1 Abrams tanks for Iraq demonstrates the on-going U.S. commitment to support Iraq's continued development into a sovereign, stable, and long-term self-reliant strategic partner. Iraq will have no difficulty absorbing this equipment into its armed forces

The proposed sale of these tanks will not alter the basic military balance in the region.

The principal contractor is not known at this time and will be determined during contract negotiations. There are no known offset agreements proposed in connection with this potential sale.

Implementation of this proposed sale will require approximately five U.S. Government and one hundred contractor representatives to travel to Iraq for a period of up to five years for delivery, system checkout, program support, and training.

There will be no adverse impact on U.S. defense readiness as a result of this proposed sale.

Transmittal No. 13-45

Notice of Proposed Issuance of Letter of Offer Pursuant to Section 36(b)(1) of the Arms Export Control Act, as amended

Annex Item No. vii

(vii) Sensitivity of Technology:

1. The M1A1M Abrams Tank components considered to contain sensitive technology in the proposed program are as follows:

a. The M1A1M Thermal Imaging System (TIS) 2nd Generation Forward Looking Infrared (FLIR) constitutes a target acquisition system which, when operated with other tank systems, gives the tank crew a substantial advantage over a potential threat. The TIS provides the M1A1 crew with the ability to effectively aim and fire the tank main armament system under a broad range of adverse battlefield conditions. The hardware itself is Unclassified. The engineering design and manufacturing data associated with the detector and infrared (IR) optics and coatings are considered sensitive. The technical data package is Unclassified with exception of the specifications for target acquisition range (Confidential), nuclear hardening (Confidential, restricted data), and laser hardening (Secret).

b. Major components of Special Armor are fabricated in sealed modules and in serialized removable subassemblies. Special armor vulnerability data for both chemical and kinetic energy rounds are classified Secret. Engineering design and manufacturing data related to the special armor are also classified Secret.

c. The 120mm Gun and 120mm KEW II Tungsten Ammunition with standard High Explosive Anti-Tank (HEAT) and training ammunition will be authorized for export. Performance characteristics of service rounds are sensitive since they reveal the penetration capabilities of the Abrams tank. Since the U.S. intends to offer only the most basic ammunition, the capability of the Abrams tank would not be seriously compromised. Most of the components of the training ammunition are not considered to be sensitive material or technology. These rounds could be reverse engineered given sufficiently capable analysis. Technical information available from testing and analysis of this ammunition could form the basis of research to develop more capable rounds.

d. (U) The use of the Advanced Gas Turbine-1500 (AGT-1500) Gas Turbine Propulsion System in the M1A1M is a unique application of armored vehicle power pack technology. The hardware is composed of the AGT-1500 engine and transmission, and is Unclassified. Manufacturing processes associated with the production of turbine blades, recuperator, bearings and shafts, and hydrostatic pump and motor, are proprietary and therefore commercially competition sensitive.

e. (U) A major survivability feature of the Abrams Tank is the compartmentalization of fuel and ammunition. Compartmentalization is the positive separation of the crew and critical components from combustible materials. In the event the fuel or ammunition is ignited or deteriorated by an incoming threat round, the crew is fully protected by the compartmentalization. Sensitive information includes the performance of the ammunition compartments as well as of the compartment design parameters.

2. (U) If a technologically advanced adversary were to obtain knowledge of the specific hardware and software elements, the information could be used to develop countermeasures or equivalent systems which might reduce weapon system effectiveness or be used in the development of a system with similar or advanced capabilities.

[FR Doc. 2014-30935 Filed 1-5-15; 8:45 am]

BILLING CODE 5001-06-P